DEPARTMENT OF COMMERCE

National Oceanic and Atmospheric Administration

50 CFR Part 700

RIN 0648-AV53

Magnuson-Stevens Act Provisions; Proposed Environmental Review Process for Fishery Management Actions; Meeting Announcements

AGENCY: National Marine Fisheries Service (NMFS), National Oceanic and Atmospheric Administration (NOAA), Commerce.

ACTION: Notice of public meetings.

SUMMARY: NMFS announces three public meetings to solicit comments on the proposed rule that would revise and update the NMFS procedures for complying with the National Environmental Policy Act (NEPA) in the context of fishery management actions developed pursuant to the Magnuson-Stevens Fishery Conservation and Management Act (Magnuson- Stevens Act).

DATES: The meetings will be held on June 25 in Washington, D.C. from 1:30 p.m. to 3:30 p.m. Eastern time; on July 15 in St. Petersburg, FL from 6 pm to 8 p.m. Eastern time; and on July 24 in Seattle, WA from 1:30 p.m. to 3:30 p.m., Pacific time.

ADDRESSES: The meetings will be held at the following locations:

Council on Environmental Quality, 722 Jackson Place, NW, Washington, DC 20503; telephone: 202 395 5750.

National Marine Fisheries Service, Southeast Regional Office, 263 13th Avenue South, St. Petersburg, FL 33701; telephone: 727-824-5301.

Hilton Seattle Airport & Conference Center, 17620 International Boulevard, Seattle, WA 98188; telephone: 206-244-4800.

FOR FURTHER INFORMATION CONTACT: Steve Leathery at (301) 713-2239 or via email at steve.leathery@noaa.gov.

SUPPLEMENTARY INFORMATION: On May 14, 2008, NMFS published a proposed rule in the Federal Register (73 FR 27998) that would revise and update the NMFS procedures for complying with the NEPA in the context of fishery management actions developed pursuant to the Magnuson-Stevens Act. These regulations are modeled on the Council of Environmental Quality (CEQ) regulations implementing the procedural provisions of NEPA, 40 CFR parts 1500-1508, with specific revisions to the existing NMFS procedures made pursuant to the Magnuson-Stevens Fishery Conservation and Management Reauthorization Act (MSRA). The procedures are designed to conform to the timelines for review and approval of fishery management plans and plan amendments developed pursuant to the Magnuson-Stevens Act. Further, these procedures are intended to integrate applicable environmental analytical procedures, including the timeframes for public input, with the procedure for the preparation and dissemination of fishery management plans, plan amendments, and other actions taken or approved pursuant to the MSA in order to provide for timely, clear, and concise analysis that is useful to decisionmakers and the public, reduce extraneous paperwork, and effectively involve the public. NMFS is holding these public meeting to solicit public comments on the proposed rule.

Special Accommodations

These meetings are accessible to people with disabilities. Requests for sign language interpretation or other aids, and requests for special accommodations or needs should be directed to Steve Leathery at (301) 713-2239 at least 5 business days in advance of the meeting date.

Authority: 16 U.S.C. 1854(i)

Dated: May 30, 2008.
Alan D. Risenhoover,
Director, Office of Sustainable Fisheries, National Marine Fisheries Service.

[FR Doc. E8-12505 Filed 6-3-08; 8:45 am]

BILLING CODE 3510-22-S